DEPARTMENT OF AGRICULTURE

Forest Service

Notice of Proposed New Fee Sites; Federal Lands Recreation Enhancement Act (Title VIII, Pub. L. 108-447)

AGENCY: Ottawa National Forest, USDA Forest Service.

ACTION: Notice of proposed new fee sites.

SUMMARY: The Ottawa National Forest is proposing new recreation fee sites. The Ottawa's proposal includes: A $100 day use fee for Clark Lake and Lake Ottawa group picnic buildings; a $5 daily or $30 annual fee for Black River picnic area and the Lake Ottawa day use area; and a $400 day use option for group use of Camp Nesbit, an organizational camp.

Fees are assessed based on the level of amenities and services provided, cost of operations and maintenance, and market assessment. These fees are proposed and will be determined upon further analysis and public comment. Funds from fees would be used for the continued operation and maintenance and improvements to the facilities within the recreation areas.

An analysis of nearby recreation facilities with similar amenities shows that the proposed fees are reasonable and typical of similar sites in the area.

DATES: Comments will be accepted through November 30, 2016. New fees would begin May 2017.

ADDRESSES: Linda L. Jackson, Forest Supervisor, Ottawa National Forest, E6248 Hwy. 2 East, Ironwood, MI 49938.

FOR FURTHER INFORMATION CONTACT: Lisa Klaus, Public Affairs Officer, 906-932-1330 extension 328. Information about these and other proposed fee changes can also be found on the Ottawa National Forest Web site: http://www.fs.usda.gov/ottawa.

SUPPLEMENTARY INFORMATION: The Federal Recreation Lands Enhancement Act (Title VII, Pub. L. 108-447) directed the Secretary of Agriculture to publish a six month advance notice in the Federal Register whenever new recreation fee areas are established.

Clark Lake and Lake Ottawa group picnic sites are fully enclosed buildings that each hold up to 75 people. Both have recently been renovated with Clark Lake receiving new bathrooms and showers, and Lake Ottawa receiving updates to the water and wastewater systems.

Black River picnic area is a public access point for boaters to Lake Superior and is one of the most highly visited sites on the Forest. It has received a renovation to its water and wastewater systems with a renovation of the pavilion to be completed in 2016.

The day use fee for Camp Nesbit would cover use of the dining hall, recreation hall, beach, restroom and shower facilities, and archery range. Season dates for Camp Nesbit vary annually based on use and weather conditions, but generally range from mid-April through mid-October. Once public involvement is complete, these new fees will be reviewed by a Recreation Resource Advisory Committee prior to a final decision and implementation.

Dated: September 21, 2016.
David M. Birdsall,
Acting Forest Supervisor.

[FR Doc. 2016-23254 Filed 9-26-16; 8:45 am]

BILLING CODE 3411-15-P